DEPARTMENT OF ENERGY

Federal Energy Regulatory Commission

[Docket No. IC26-1-000]

Commission Information Collection Activities (FERC-725Z) Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725Z (Mandatory Reliability Standards: IRO Reliability Standards).

DATES: Comments on the collection of information are due March 16, 2026.

ADDRESSES: You may submit your comments (identified by Docket No. IC26-1-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, Office of the Secretary, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Kayla Williams, (202) 502-6468 DataClearance@FERC.gov.

SUPPLEMENTARY INFORMATION:

Title: FERC-725Z (Mandatory Reliability Standards: IRO Reliability Standards).

OMB Control No.: 1902-0276.

Type of Request: Extension to this currently approved information collection.

Abstract: On August 8, 2005, The Electricity Modernization Act of 2005, which is Title XII of the Energy Policy Act of 2005 (EPAct 2005), was enacted into law.¹ Under section 215 of the Federal Power Act (FPA) implemented in 18 CFR 40, the Commission requires a Commission-certified Electric Reliability Organization (ERO) to develop mandatory and enforceable Reliability Standards,² which are subject to Commission review and approval. In 2006, the Commission established a process to select and certify an ERO and, subsequently, certified the North American Electric Reliability Corporation (NERC) as the ERO.³

¹ The Energy Policy Act of 2005 (EPAct), Public Law 109-58, Title XII, Subtitle A, 119 Stat. 594, 941 (2005), codified at 16 U.S.C. 824o (2000).

² The Federal Power Act (as modified by the EPAct) states “[t]he terms “reliability standard” means a requirement, approved by the Commission under this section, to provide for reliable operation of the bulk-power system. The term includes requirements for the operation of existing bulk-power system facilities, including cybersecurity protection, and the design of planned additions or modifications to such facilities to the extent necessary to provide for reliable operation of the bulk-power system, but the term does not include any requirement to enlarge such facilities or to construct new transmission capacity or generation capacity.”

³ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

The ERO develops proposed Reliability Standards ⁴ and, if approved by NERC, submits them to the Commission for review and approval. When the standards are approved by the Commission, the Reliability Standards become mandatory and must be enforced by the ERO, subject to Commission oversight.

⁴ The NERC Standard Processes Manual, Appendix 3A of the NERC Rules Of Procedure, (posted at https://www.nerc.com/FilingsOrders/us/RuleOfbProcedureDL/SPM_Clean_Mar2019.pdf) describes the process for developing, modifying, withdrawing, or retiring a Reliability Standard.

NERC established the following IRO standards within FERC-725Z:

IRO-001-4 (Reliability Coordination—Responsibilities) purpose is to establish the responsibility of Reliability Coordinators to act or direct other entities to act. Applicable transmission operator, balancing authority, generator operator and distribution provider shall follow the operating instructions from their reliability coordinator or inform the reliability coordinator why they cannot comply.

IRO-002-7 (Reliability Coordination, Monitoring and Analysis) purpose is to provide system operators with the capabilities necessary to monitor and analyze data needed to perform their reliability functions. The requirements of IRO-002-7 define data exchange capabilities, testing functionality, notifications when those capabilities are not available, monitor status at facilities, and some personnel functions. IRO-002-7 does have a WECC Variance to develop a methodology that creates models for performing operational planning analyses and real-time assessments.

Currently effective IRO-009-2 applicable to reliability coordinators and the purpose of the standard is to prevent instability, uncontrolled separation, or cascading outages that adversely impact the reliability of the interconnection by ensuring prompt action to prevent or mitigate instances of exceeding Interconnection Reliability Operating Limits (IROLs). The standard mandates that a Reliability Coordinator must have operating processes to prevent IROL exceedance and, if an exceedance is predicted, initiate those processes. It also requires them to mitigate exceedances when they occur and coordinate their actions with neighboring Reliability Coordinators in situations where there is a difference in IROLs.

Additionally, regarding data exchange, NERC cites Reliability Standard IRO-010-5 (Reliability Coordinator Data Specification and Collection) and its stated purpose of preventing instability, uncontrolled separation, or cascading outages “by ensuring the Reliability Coordinator has the data it needs to monitor and assess the operation of its Reliability Coordinator Area.” In IRO-010-5 required in the standard that the reliability coordinator must specify the data necessary for it to perform its operational planning analyses and provide the specifications to the entities from which it needs data who then must comply with the data request using a mutually agreeable format and security protocols.

IRO-014-3 purpose is to ensure that each Reliability Coordinator's operations are coordinated such that they will not adversely impact other Reliability Coordinator Areas and to preserve the reliability benefits of interconnected operations. IRO-014-3 standard requires Reliability Coordinators (RCs) to coordinate operating procedures and handle emergencies to ensure interconnected operations remain reliable and do not negatively impact neighboring RC areas.

IRO-017-1 (Outage Coordination) purpose is to ensure that outages are properly coordinated in the Operations Planning time horizon and Near-Term Transmission Planning Horizon. IRO-017-1, known as “Outage Coordination,” establishes requirements for coordinating generation and transmission outages to maintain bulk electric system reliability. Reliability coordinators, planning coordinators, balancing authorities, transmission owners and transmission planners are applicable entities for IRO-017-1.

IRO-018-1(i) (Reliability Coordinator Real-time Reliability Monitoring and Analysis Capabilities), submitted by North American Electric Reliability Corporation (NERC). IRO-018-1(i) mandates that Reliability Coordinators (RCs) possess real-time monitoring and analysis tools to ensure bulk electric system reliability. This standard, which includes requirements for RCs, aims to enhance system operators' awareness of monitoring tools and data quality. In this order, the Reliability Standards build on monitoring, real-time assessments and support effective situational awareness. The Reliability Standards accomplish this by requiring applicable entities to: (1) provide notification to operators of real-time monitoring alarm failures; (2) provide operators with indications of the quality of information being provided by their monitoring and analysis capabilities; and (3) address deficiencies in the quality of information being provided by their monitoring and analysis capabilities.

NERC observes that the performance of the requirements it cites is premised on the existence of data exchange capabilities, regardless of whether a separate requirement expressly requires the reliability coordinator to have data exchange capabilities in place. In review this 725Z collection for the IRO Reliability Standards, the number of entities/respondents was checked and broken down into the appliable type of entity for each reliability standard. As we continue to combine various work projects associated with the 725Z collection there was an increase in the number of responses from 953 to 2,687. The increase is largely associated with capturing all of the reliability standard applicable entities into this single collection and the single largest contributor was the addition of generator owners in reliability standard IRO-001-4. These adjustments in response count will provide a more accurate representation of all the entities under the 725Z collection. Staff looked at each reliability standard as its own unique project and in doing so eliminated the multiple entity count by making a more accurate representation of the number of responses.

Type of Respondents: Reliability coordinators (RC), Planning Coordinators (PC), Balancing authorities (BA), Transmission Owners (TO), Transmission Planners (TP), Transmission Operators (TOP), Distribution Planners (DP) are included entities for Estimate of Annual Burden: ⁵ The Commission estimates the changes in the annual public reporting burden and cost ⁶ as follows.

⁵ Burden is defined as the total time, effort, or financial resources expended by persons to generate, maintain, retain, or disclose or provide information to or for a federal agency. For further explanation of what is included in the information collection burden, refer to 5 Code of Federal Regulations 1320.3.

⁶ The estimated hourly cost (salary plus benefits) is a combination of the following categories from the Bureau of Labor Statistics (BLS) website, May 2025 http://www.bls.gov/oes/current/naics2_22.htm: 75% of the average of an Electrical Engineer (17-2071) $71.19/hr., × .75 = 53.3925 ($53.39-rounded) ($53.39/hour); and 25% of an Information and Record Clerk (43-4199) $40.51/hr., $40.51 × .25 = 10.1275 ($10.13 rounded) ($10.13/hour), for a total ($53.39 + $10.13 = $63.52/hour).

⁷ The NERC Compliance Registry, as of July 11, 2025, identifies the following NERC unique U.S. entities that are subject to mandatory compliance with Reliability Standard IRO-001-4, IRO-002-7, IRO-008-3, IRO-009-2, IRO-010-5, IRO-04-3, IRO-017-1, IRO-018-1(i). The number of respondents below is based on an estimate of the NERC compliance registry US only Unique Entities; for balancing authority, transmission operator (TOP), transmission Planners (TP), distribution planners (DP), generator owner (GO) and reliability coordinator (RC).

FERC-725Z—Reporting and Recordkeeping Requirements for Reliability Standards IRO-001, IRO-002, IRO-008, IRO-009, IRO-010, IRO-014, IRO-017, and IRO-018
Information collection requirements | Number of respondents & type of entity | Annual number of responses per respondent | Total number of responses | Average burden hours & cost per response ($) | Total annual burden hours & total annual cost ($) | Total annual burden cost
| (1) ⁷ | (2) | (1) * (2) = (3) | (4) | (3) * (4) = (5) | (5)/(1)
IRO-001-4 | 12 (RC) | 1 | 12 | 24 hrs., $1,524.48 | 288 hrs., $18,293.76 | $1,524.48
| 97 (BA) | 1 | 97 | 4 hrs., $254.08 | 388 hrs., $24,645.76 | 254.08
| 1,314 (GO) | 1 | 1,314 | 4 hrs., $254.08 | 5,256 hrs., $333,861.12 | 254.08
| 298 (DP) | 1 | 298 | 4 hrs., $254.08 | 1,192 hrs., $75,715.84 | 254.08
| 166 (TOP) | 1 | 166 | 12 hrs., $762.24 | 1,992 hrs., $126,531.84 | 762.24
IRO-002-7 | 12 (RC) | 1 | 12 | 24 hrs., $1,524.48 | 288 hrs., $18,293.76 | 1,524.48
IRO-008-3 | 12 (RC) | 1 | 12 | 160 hrs., $10,163.2 | 1,920 hrs., $121,985.4 | 10,163.2
IRO-009-2 | 12 (RC) | 1 | 12 | 12 hrs., $762.24 | 144 hrs., $9,146.88 | 762.24
IRO-010-5 | 12 (RC) | 1 | 12 | 24 hrs., $1,524.48 | 288 hrs., $18,293.76 | 1,524.48
IRO-014-3 | 12 (RC) | 1 | 12 | 12 hrs., $762.24 | 144 hrs., $9,146.88 | 762.24
IRO-017-1 | 12 (RC) | 1 | 12 | 1,200 hrs., $76,224 | 14,400 hrs., $914,688 | 76,224
| 62 (PC) | 1 | 62 | 96 hrs., $6,097.92 | 5,704 hrs., $362,318.08 | 6,097.92
| 211 (TP) | 1 | 211 | 96 hrs., $6,097.92 | 20,256 hrs., $1,286,661.12 | 6,097.92
| 337 (TO) | 1 | 337 | 8 hrs., $508.12 | 2,696 hrs., $171,249.92 | 508.12
| 97 (BA) | 1 | 97 | 8 hr., $508.16 | 776 hrs., $49,291.52 | 508.16
IRO-018-1(i) | 12 (RC) | 1 | 12 | 34 hrs., $2,159.68 | 408 hrs., $25,916.16 | 2,159.68
Total for FERC-725Z |  |  | 2,678 |  | 55,218 hrs., $3,538,599.16 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 7, 2026.
Debbie-Anne A. Reese,
Secretary.

[FR Doc. 2026-00435 Filed 1-12-26; 8:45 am]

BILLING CODE 6717-01-P